DEPARTMENT OF HEALTH AND HUMAN SERVICES

Health Resources and Services Administration

Availability of Funds Announced in the HRSA Preview

AGENCY: Health Resources and Services Administration, HHS.

ACTION: General notice.

SUMMARY: Health Resources and Services Administration (HRSA) announces the availability of funds in the fiscal year (FY) 2005 HRSA Preview. The HRSA Preview is a comprehensive review of HRSA's fiscal year 2005 competitive programs. The purpose of the HRSA Preview is to provide the general public with a single source of program and application information related to the Agency's competitive grant offerings. The HRSA Preview is designed to replace the multiple Federal Register notices that traditionally advertised the availability of HRSA's discretionary funds for its various programs. A printer-friendly copy of the Preview can be downloaded at http://www.hrsa.gov/grants/preview/default.htm. A hard copy can be requested by contacting the HRSA Information Center at: HRSA Information Center, 2710 Prosperity Avenue, Fairfax, VA 22031, Telephone: 1-800-ASK-HRSA, http://www.hrsa.gov.

It should be noted that additional program initiatives responsive to new or emerging issues in the health care area and unanticipated at the time of publication of the HRSA Preview may be announced through the Federal Register and the HRSA Web site http://www.hrsa.gov/grants.htm. A list of these programs can also be found at the Grants.gov Web site: http://www.grants.gov.

HRSA continues to accept grant applications online. Please refer to the HRSA Web site at http://www.hrsa.gov/grants/preview/default.htm for more information.

Dated: October 6, 2004.
Elizabeth M. Duke,
Administrator.

[FR Doc. 04-23107 Filed 10-13-04; 8:45 am]

BILLING CODE 4165-15-P